NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 26, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of the Army, Agency-wide (N1-AU-10-3, 1 item, 1 temporary item). Master files of an electronic information system that contains promotion data for enlisted personnel, including eligibility rosters, selection lists, and review documentation.

2. Department of the Army, Agency-wide (N1-AU-10-5, 1 item, 1 temporary item). Master files of an electronic information system that contains field, scientific, and engineering data used in connection with environmental remediation and restoration activities at Army installations.

3. Department of the Army, Agency-wide (N1-AU-10-6, 1 item, 1 temporary item). Master files of an electronic information system that contains information concerning forensic evidence used in criminal investigations, such as related case number, date evidence was gathered, and examiners' reports.

4. Department of the Army, Agency-wide (N1-AU-10-7, 1 item, 1 temporary item). Master files of an electronic information system that contains resource management data concerning criminal investigative activities that is used for budget planning and execution, personnel management, training, and agent accreditation.

5. Department of the Army, Agency-wide (N1-AU-10-16, 2 items, 2 temporary items). Master files of electronic information systems used in connection with civilian employee personnel management matters, such as recruitment, placement, and workforce planning and analysis.

6. Department of Defense, Joint Staff (N1-218-09-7, 5 items, 5 temporary items). Master files and reports associated with an electronic information system used by the U.S. European Command for personnel and casualty reporting. Most of the information included in these records is also contained in records that were previously approved for permanent retention.

7. Department of Health and Human Services, Centers for Medicare and Medicaid Services (N1-440-09-13, 8 items, 8 temporary items). Content and management records associated with the agency's internal and external Web sites.

8. Department of Health and Human Services, Centers for Medicare and Medicaid Services (N1-440-09-19, 2 items, 2 temporary items). Master files and outputs of an electronic information system used to track executive correspondence, congressional reports, and Freedom of Information Act requests and appeals.

9. Department of Health and Human Services, Centers for Medicare and Medicaid Services (N1-440-10-2, 1 item, 1 temporary item). Records of three standardized patient assessments submitted by health care quality improvement organizations that were never used.

10. Department of Justice, Justice Management Division (N1-60-09-50, 1 item, 1 temporary item). Records of agency-wide programs established to ensure equal employment opportunities for women, minorities, persons with disabilities, and other groups.

11. Department of Justice, Office of the Inspector General (N1-60-09-61, 5 items, 5 temporary items). Content and management records relating to the office's internal Web site.

12. Department of Justice, Bureau of Alcohol, Tobacco, Firearms, and Explosives (N1-436-09-1, 2 items, 2 temporary items). Digital images and metadata relating to bullets and cartridges recovered from crime scenes and test fires of weapons.

13. Department of Justice, Executive Office of U.S. Trustees (N1-60-09-36, 1 item, 1 temporary item). Master files of automated case tracking system used to maintain data on bankruptcy cases.

14. Department of the Navy, U.S. Marine Corps (N1-127-09-7, 1 item, 1 temporary item). Master files of an electronic information system used in connection with career planning and the assignment of personnel.

15. Department of State, Bureau of East Asian and Pacific Affairs (N1-59-09-14, 5 items, 3 temporary items). Subject files, biographical files and daily activity reports. Proposed for permanent retention are briefing books and historical files. The proposed disposition instructions are limited to paper records for permanent items.

16. Department of Transportation, Federal Aviation Administration (N1-237-09-26, 4 items, 4 temporary items). Electronic data and other records used in connection with credentialing of aviation safety inspectors.

17. Department of Transportation, Federal Highway Administration (N1-406-09-28, 2 items, 2 temporary items). Master files of two electronic information systems maintained by the agency's aerodynamics laboratory. One of the systems contains bridge wind event data recorded at the Deer Isle Bridge in Maine. The other system contains bridge and cable data.

18. Department of the Treasury, Internal Revenue Service (N1-58-10-1, 4 items, 4 temporary items). Master files, outputs, and system documentation associated with an electronic information system that contains data used for scheduling computer runs at agency service centers.

19. Department of the Treasury, Internal Revenue Service (N1-58-10-2, 3 items, 3 temporary items). Master files and system documentation associated with electronic information systems that contain data concerning the examination of returns from employee plans and exempt organizations.

20. Department of the Treasury, Internal Revenue Service (N1-58-10-3, 3 items, 3 temporary items). Master files and system documentation associated with an electronic information system that contains data concerning agency information technology assets.

21. Department of the Treasury, Internal Revenue Service (N1-58-10-4, 4 items, 4 temporary items). Master files, outputs, and system documentation associated with an electronic information system that contains data concerning the case loads and hours worked by Tax Exempt and Government Entities staff.

22. Federal Communications Commission, Wireless Telecommunications Bureau (N1-173-08-1, 32 items, 32 temporary items). Master files of an electronic information system that contain information concerning licensing of wireless and public safety radio services. Included are applications for licenses, designated entity licensees' annual reports, pleadings, correspondence, license records for auctionable and non-auctionable services, granted registrations and leases, audit records, and antenna application and registration information.

23. Federal Energy Regulatory Commission, Agency-wide (N1-138-10-1, 1 item, 1 temporary item). Plans submitted by Federal and state agencies relating to waterway use and improvements and energy conservation.

24. National Prison Rape Elimination Commission, Agency-wide (N1-220-09-1, 4 items, 2 temporary items). Working papers, routine correspondence, recordings of meetings that have been transcribed, and other non-substantive records. Proposed for permanent retention are the Commission's substantive records, including agendas and minutes of meetings, briefing books, reports, and the Commission Web site.

25. Railroad Retirement Board, Office of Programs (N1-184-09-2, 21 items, 21 temporary items). Records relating to administration of the Medicare program and contracted Part B claims on behalf of qualified railroad retirement beneficiaries. Included are electronic case files, input files, reports, and electronic data.

Dated: January 21, 2010.
Michael J. Kurtz,
Assistant Archivist for Records Services-Washington, DC.

[FR Doc. 2010-1709 Filed 1-26-10; 8:45 am]

BILLING CODE 7515-01-P